DEPARTMENT OF COMMERCE

Foreign-Trade Zones Board

[Order No. 1468]

Approval for Expanded Manufacturing Authority, (Printer Cartridges and Thermal Media), Within Foreign-Trade Subzone 141A, Eastman Kodak Company, Rochester, New York Area

Pursuant to its authority under the Foreign-Trade Zones Act of June 18, 1934, as amended (19 U.S.C. 81a-81u), the Foreign-Trade Zones Board (the Board) adopts the following Order:

Whereas, Monroe County, New York, grantee of Foreign-Trade Zone 141, has applied to expand the scope of manufacturing authority under zone procedures within Subzone 141A, at the Eastman Kodak Company (Kodak) plant located at sites in the Rochester, New York area, to include additional finished products (printer cartridges and thermal media) (FTZ Docket 36-2005, filed 8/1/2005; amended 5/15/2006);

Whereas, notice inviting public comment has been given in the Federal Register (70 FR 46475-46476, 8/10/2005); and,

Whereas, the Board adopts the findings and recommendations of the examiner's report, and finds that the requirements of the FTZ Act and the Board's regulations would be satisfied, and that approval of the application would be in the public interest;

Now, therefore, the Board hereby approves the request for expanded manufacturing authority related to printer cartridges and thermal media, as described in the amended application and Federal Register notice, subject to the FTZ Act and the Board's regulations, including Section 400.28, and further subject to a restriction that privileged foreign status (19 CFR Part 146.41) shall be elected:

1. On foreign merchandise that falls under HTSUS headings or subheadings 2821, 2823, all of Chapter 32 or 3901.20 or where the foreign merchandise in question is described as a “pigment, pigment preparation, masterbatch, plastic concentrate, flush color, paint dispersion, coloring preparation, or colorant.”

2. On foreign merchandise that falls under HTSUS heading 4202, with the exception of merchandise classified in HTSUS categories 4202.91.0090 and 4202.92.9060.

Signed at Washington, DC, this 26th day of July 2006.
David M. Spooner,
Assistant Secretary of Commerce for Import Administration, Alternate Chairman, Foreign-Trade Zones Board.
Attest:
Andrew McGilvray,
Acting Executive Secretary.

[FR Doc. E6-12477 Filed 8-1-06; 8:45 am]

BILLING CODE 3510-DS-S